DEPARTMENT OF HEALTH AND HUMAN SERVICES

Administration for Children and Families

Proposed Information Collection Activity; Comment Request

Proposed Projects: Childcare.gov.

Title: CCDF Grantee Consumer Education Database Linkages with Childcare.gov.

OMB No.: New.

Description: The Child Care and Development Block Grant (CCDBG) Act of 2014 requires HHS to create a national Web site for consumer education. The National Web site will be hosted at childcare.gov. CCDBG grantees are also required to stand up child care consumer education Web sites that meet the requirements of the law. The CCDBG Final Rule aligns the National and State Web sites by requiring Lead Agencies to provide HHS with linkages to their databases that store consumer education information. The Childcare.gov Web site, maintained by Office of Child care will collect child care specific information from State and Territory databases and make that information available for parents using the childcare.gov Web site to search for child care that meets their needs. Childcare.gov will provide consumers, directly or through linkages to State and Territory data sources, with the following minimum information and services:

(1) A localized list of all eligible child care providers, differentiating between licensed and license-exempt providers;

(2) Child care provider-specific information from a quality rating and improvement system or information about other quality indicators, to the extent that such information is publicly available and practicable.

Respondents: CCDBG grantees in States and Territories.

Annual Burden Estimates
Instrument | Number of respondents | Number of responses per respondent | Average burden hours per response | Total burden hours
Childcare.gov data collection: Establish and maintain Web-based data connection in subsequent years | 56 | 260 | .57 | 8,299

Estimated Total Annual Burden Hours: 8,299 hours.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW., Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2016-30982 Filed 12-22-16; 8:45 am]

BILLING CODE 4184-01-P